DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from February 9 to February 13, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: March 24, 2009.
Patrick Andrus,
Acting Chief, National Register of Historic Places.

Key: State, County, Property Name, Address/Boundary, City, Vicinity, Reference Number, Action, Date, Multiple Name

ARIZONA

Maricopa County

La Hacienda Historic District, Bounded by N. 3rd St. to the W., N. 7th St. to the E., E. Catalina Dr. to the N., E. Thomas Rd. to the S., Phoenix, 09000002, Listed, 2/13/09

ARKANSAS

Faulkner County

Mt. Zion Missionary Baptist Church, 249 AR 107, Enola, 09000003, Listed, 2/05/09 (Mixed Masonry Buildings of Silas Owens, Sr. MPS)

GEORGIA

Troup County

Jones, R.M., General Store, 6926 Whitesville Rd., LaGrange vicinity, 08001321, Listed, 2/11/09

GUAM

Guam County

Umang Dam, S. side of Finile Rd., Agat, 08001408, Listed, 2/06/09

KENTUCKY

Fayette County

Pepper, James E., Distillery, 1200 Manchester St., Lexington, 09000006, Listed, 2/11/09

KENTUCKY

McCracken County

Kenmil Place, 4300 Alben Barkley Dr., Paducah, 09000008, Listed, 2/11/09

MAINE

Androscoggin County

Blake-Ham House, 354 Main St., Lewiston, 09000009, Determined Eligible, 2/12/09

MAINE

Androscoggin County

Peck, Bradford, House, 506 Main St., Lewiston, 09000010, Listed, 2/12/09

MAINE

Aroostook County

Donovan-Hussey Farms Historic District, 546 and 535 Ludlow Rd., Houlton, 09000012, Listed, 2/13/09

MAINE

Aroostook County

Duncan, Beecher H., Farm, 26 Shorey Rd., Westfield, 09000011, Listed, 2/11/09

MAINE

Lincoln County

Brick House Historic District, Address Restricted, Newcastle, 09000013, Listed, 2/13/09

MAINE

Oxford County

Stearns Hill Farm, 90 Stearns Hill Rd., West Paris, 09000014, Listed, 2/11/09

MISSISSIPPI

Madison County

Fairview School, 1278 N. Old Canton Rd., Canton, 08000199, Listed, 2/11/09

MISSOURI

Texas County

Houston High School, 423 W. Pine, Houston, 09000016, Listed, 2/12/09

NEW YORK

Allegany County

Friendship Free Library, 40 W. Main St., Friendship, 08000769, Listed, 8/15/08

NEW YORK

Dutchess County

Pulver—Bird, House, 983 Hunns Lake Rd., Stanford vicinity, 08000700, Listed, 7/25/08

NEW YORK

Erie County

Sardinia Old Town Hall, 12070 Savage Rd., Sardinia, 08001231, Listed, 12/23/08

NEW YORK

Livingston County

Corby Farm Complex, 7400 Corby Rd., Honeoye Falls vicinity, 08000273, Listed, 4/01/08 (Lima MRA)

NEW YORK

Washington County

Home Farm, 591 Co. Rt. 18, East Whitehall, 08001147, Listed, 12/05/08

OREGON

Lincoln County

Bloch, Ernest, House, 116 NW. Gilbert Way, Newport, 09000049, Determined Eligible, 2/09/09

WASHINGTON

King County

John N. Cobb (fisheries research vessel), NOAA NW Regional Office, 7600 Sand Point Way NE., Seattle, 09000047, Listed, 2/11/09

WISCONSIN

St. Croix County

Kriesel, Louis C. and Augusta, Farmstead, 132 State Trunk Hwy 35/64, St. Joseph, 09000021, Listed, 2/12/09

WISCONSIN

St. Croix County

Thelen, John Nicholas and Hermina, House, 1383 and 1405 Thelen Farm Trail, St. Joseph, 09000022, Listed, 2/12/09

[FR Doc. E9-6911 Filed 3-27-09; 8:45 am]

BILLING CODE